DEPARTMENT OF TRANSPORTATION

Coast Guard

[USCG 2002-13027]

Great Lakes Pilotage Office Relocation Study

AGENCY: Coast Guard, DOT.

ACTION: Notice of study; request for comments.

SUMMARY: The Coast Guard will conduct a study to determine whether its Office of Great Lakes Pilotage should move from Washington, DC, to a location closer to the Great Lakes. It will do this to determine the best place from which to serve the public. The right choice should improve service to all concerned.

DATES: The study will begin August 27, 2002 with telephonic interviews of designated representatives of associations representing a broad spectrum of Great Lakes stakeholders. Written comments should reach the Docket Management Facility on or before September 12, 2002.

ADDRESSES: Please identify your comments and related material by the docket number of this rulemaking [USCG 2002-13027]. Then, to make sure they enter the docket just once, submit them by just one of the following means:

(1) By mail to the Docket Management Facility, U.S. Department of Transportation, room PL-401, 400 Seventh Street SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web site for the Docket Management System at http://dms.dot.gov.

In choosing among these means, please give due regard to the recent difficulties with delivery of mail by the U.S. Postal Service to Federal facilities.

The Docket Management Facility maintains the public docket for this notice. Comments and related material received from the public, as well as documents mentioned in this Notice, will become part of this docket and will be available for inspection or copying at room PL-401 on the Plaza level of the Nassif Building, 400 Seventh Street, SW., Washington, DC, between 9 a.m. and 5 p.m., Monday through Friday, except Federal holidays. You may also find this docket on the Internet at http://dms.dot.gov.

FOR FURTHER INFORMATION CONTACT: Mr. Paul Wasserman, telephone 202-267-0093 or e-mail at http://pwasserman@comdt.uscg.mil for questions on the study. For questions on viewing or submitting material to the docket, call Ms. Dorothy Beard, Chief, Dockets, Department of Transportation, telephone 202-366-9329.

Background: This study will weigh the benefits of moving the Office of Great Lakes Pilotage from its current location in Washington, DC, to a location near the Great Lakes. Should this study conclude that such a move is justified, the Coast Guard will examine suitable locations for the office near the Great Lakes and make a final recommendation concerning where to relocate.

From 1960 to 1990, the Office of Great Lakes Pilotage was located in Cleveland, Ohio. In 1990, the Coast Guard moved the office to Washington, DC, to better serve the community. A review of Coast Guard's management and oversight of the Office completed this year, however, recommended that the Office be relocated to Massena, New York, where it would be closer to the pilotage community it regulates and to other government agencies (Saint Lawrence Seaway Development Corporation and the Canadian Great Lakes Pilotage Authority) that share regulatory responsibilities in the Great Lakes. Acting on this recommendation, the Coast Guard is conducting this study to determine whether the office should be relocated and, if so, to what location.

Study Process: The study will be conducted in four phases. Phase 1 will explore the benefits of relocating the function from Washington, DC, to a location closer to the Great Lakes. Phase 1 will include telephone interviews with the representatives of the following stakeholder associations: (1) St. Lawrence Seaway Pilots' Association; (2) Great Lakes District Council, International Longshoremen's Association; (3) American Great Lakes Ports' Association; (4) United States Great Lakes Shipping Association; (5) Lakes Pilots' Association, Inc.; and (6) Western Great Lakes Pilots' Association. In addition, phase 1 will include interviews with U.S. and Canadian governmental agencies that conduct business in the Great Lakes area, and will take into consideration public comments received in connection with this study.

If relocation is recommended, phase 2 will investigate suitable locations in the Great Lakes community. And in that case, phase 3 will develop a specific implementation plan. Phase 4 will examine whether the office should remain a unit of Coast Guard Headquarters or transferred to the Ninth Coast Guard District, with its headquarters in Cleveland.

The study will consider the specific effects of a relocation as they relate to: (1) Communications with the pilot associations, port authorities, shippers, agents, unions other stakeholders and interested parties; (2) Communications with other governmental entities, such as the St. Lawrence Seaway Development Corporation and the Canadian Great Lakes Pilotage Authority; and (3) Whether the Great Lakes Pilotage Office remains a Headquarters unit or is transferred to the Ninth Coast Guard District.

Dated: August 6, 2002.
Joseph J. Angelo,
Acting Assistant Commandant Marine Safety, Security And Environmental Protection.

[FR Doc. 02-20480 Filed 8-12-02; 8:45 am]

BILLING CODE 4910-15-P